DEPARTMENT OF COMMERCE

National Oceanic and Atmospheric Administration

[RTID 0648-XD182]

Takes of Marine Mammals Incidental to Specified Activities; Taking Marine Mammals Incidental to Columbia East Lateral XPRESS Project; Correction

AGENCY: National Marine Fisheries Service (NMFS), National Oceanic and Atmospheric Administration (NOAA), Commerce.

ACTION: Notice; correction.

SUMMARY: NMFS published a notice in the Federal Register of September 7, 2023, concerning the proposed incidental harassment authorization (IHA) for take of marine mammals incidental to construction activities, including pile driving, to install a point of delivery metering station and a tie-in facility in Barataria Bay, Louisiana. That notice included an incorrect email address for submitting public comments. This notice provides a correction to that email address; all other information is unchanged.

FOR FURTHER INFORMATION CONTACT: Steve Tucker, Office of Protected Resources, NMFS, (301) 427-8401.

SUPPLEMENTARY INFORMATION:

Correction

In the Federal Register of September 7, 2023, in FR Doc. 2023-19310, on page 61530, in the third column, correct the ADDRESSES caption to read:

ADDRESSES: Comments should be addressed to Jolie Harrison, Chief, Permits and Conservation Division, Office of Protected Resources, National Marine Fisheries Service and should be submitted via email to ITP.Tucker@noaa.gov.

Dated: September 14, 2023.
Kimberly Damon-Randall,
Director, Office of Protected Resources, National Marine Fisheries Service.

[FR Doc. 2023-20297 Filed 9-15-23; 4:15 pm]

BILLING CODE 3510-22-P